DEPARTMENT OF ENERGY

Federal Energy Regulatory Commission

Combined Notice of Filings # 1

October 4, 2006.

Take notice that the Commission received the following electric corporate filings:

Docket Numbers: EC06-46-001.

Applicants: Aquila, Inc.; Mid-Kansas Electric Company, LLC.

Description: Aquila, Inc. and Mid-Kansas Electric Co., LLC submit a supplement to their 12/19/05 application to reflect the final negotiated terms.

Filed Date: 8/31/2006.

Accession Number: 20060906-0145.

Comment Date: 5 p.m. Eastern Time on Monday, October 16, 2006.

Docket Numbers: EC06-167-000.

Applicants: MACH Gen, LLC; Millennium Power Partners, L.P.; New Athens Generating Company, LLC; New Covert Generating Company, LLC; New Harquahala Generating Company, LLC; Lehman Commercial Paper Inc.; Merrill Lynch Credit Products, LLC.

Description: MACH Gen LLC et al submit an application for order requesting that FERC authorize an indirect disposition of jurisdictional facilities resulting from proposed transfers of ownership and/or control of equity interests in MACH Gen.

Filed Date: 9/28/2006.

Accession Number: 20061003-0134.

Comment Date: 5 p.m. Eastern Time on Thursday, October 19, 2006.

Take notice that the Commission received the following electric rate filings:

Docket Numbers: ER05-644-000.

Applicants: PSEG Fossil LLC.

Description: PSEG Energy Resources & Trade LLC submits an informational filing of a list of planned Project Investments and projected Project Investment costs for calendar year 2007 for Sewaren 1-4 and Hudson 1.

Filed Date: 9/29/2006.

Accession Number: 20060929-5066.

Comment Date: 5 p.m. Eastern Time on Friday, October 20, 2006.

Docket Numbers: ER05-1482-002.

Applicants: Electric Energy Inc.

Description: Electric Energy Inc. submits a notice of a potential change in status pursuant to the Commission's Order 652.

Filed Date: 9/29/2006.

Accession Number: 20061003-0160.

Comment Date: 5 p.m. Eastern Time on Friday, October 20, 2006.

Docket Numbers: ER06-199-003; ER06-499-004.

Applicants: PJM Interconnection, LLC.

Description: PJM Interconnection, LLC submits revisions to its OATT, Substitute Original Sheet 224.04b to correct its 8/7/06 filing.

Filed Date: 9/25/2006.

Accession Number: 20061003-0125.

Comment Date: 5 p.m. Eastern Time on Monday, October 16, 2006.

Docket Numbers: ER06-787-003.

Applicants: Idaho Power Company.

Description: Idaho Power Company submits a compliance filing providing revisions to its OATT, pursuant to the Commission's Order issued on 5/31/06.

Filed Date: 9/28/2006.

Accession Number: 20061002-0195.

Comment Date: 5 p.m. Eastern Time on Thursday, October 19, 2006.

Docket Numbers: ER06-1134-001.

Applicants: Central Vermont Public Service Corp.

Description: Central Vermont Public Service Corp. submits a revised cancellation, reflecting the actual 9/1/06 closing date of the purchase and sale contemplated in the Purchase and Sale Agreement w/Rochester Electric Light & Power Co.

Filed Date: 9/28/2006.

Accession Number: 20061003-0096.

Comment Date: 5 p.m. Eastern Time on Thursday, October 19, 2006.

Docket Numbers: ER06-1266-001.

Applicants: Niagara Mohawk Power Corporation.

Description: Niagara Mohawk submits its amended Exit Agreement and notifies the Commission of its effective date, pursuant to Order No. 614.

Filed Date: 9/29/2006.

Accession Number: 20061003-0169.

Comment Date: 5 p.m. Eastern Time on Friday, October 20, 2006.

Docket Numbers: ER06-1279-001.

Applicants: Louisville Gas & Electric Company.

Description: E.ON. U.S., LLC on behalf of Louisville Gas and Electric Co. and Kentucky Utilities Co. submits an agreement with TVA Distributor Group and Kentucky Municipals.

Filed Date: 9/27/2006.

Accession Number: 20061003-0128.

Comment Date: 5 p.m. Eastern Time on Wednesday, October 18, 2006.

Docket Numbers: ER06-1430-001.

Applicants: SP Newsprint Co.

Description: SP Newsprint Co. submits its revised FERC Electric Tariff, Original Volume No. 1, Original Sheet No. 1 and Rate Schedule.

Filed Date: 9/29/2006.

Accession Number: 20061003-0170.

Comment Date: 5 p.m. Eastern Time on Tuesday, October 10, 2006.

Docket Numbers: ER06-1539-000.

Applicants: PSEG Energy Resources & Trade LLC.

Description: PSEG Energy Resources & Trade LLC submits a Notice of Cancellation of its FERC Rate Schedule FERC 3, effective 11/1/06.

Filed Date: 9/28/2006.

Accession Number: 20060929-0205.

Comment Date: 5 p.m. Eastern Time on Thursday, October 19, 2006.

Docket Numbers: ER06-1545-000.

Applicants: North American Electric Reliability Council.

Description: North American Electric Reliability Council submits revisions to the Transmission Loading Relief Procedure use in the Eastern Interconnection.

Filed Date: 9/29/2006.

Accession Number: 20061003-0098.

Comment Date: 5 p.m. Eastern Time on Friday, October 20, 2006.

Docket Numbers: ER06-1546-000.

Applicants: Florida Power Corporation.

Description: Florida Power Corporation dba Progress Energy Florida, Inc submits amendments to its cost-based wholesale power sales tariff CR-1.

Filed Date: 9/29/2006.

Accession Number: 20061003-0126.

Comment Date: 5 p.m. Eastern Time on Friday, October 20, 2006.

Docket Numbers: ER06-1548-000.

Applicants: Chehalis Power Generating, L.P.

Description: Chehalis Power Generating, LP submits a compliance filing pursuant to Settlement Agreement, revised Reactive Supply and Voltage Control from Generation Sources Service Rate Schedule No. 2.

Filed Date: 9/29/2006.

Accession Number: 20061003-0152.

Comment Date: 5 p.m. Eastern Time on Friday, October 20, 2006.

Docket Numbers: ER06-1550-000.

Applicants: PJM Interconnection, LLC.

Description: PJM Interconnection, LLC submits revisions to the Chart in Schedule 2 of the PJM OATT to incorporate the updated revenue requirements of Virginia Electric and Power Co etc.

Filed Date: 9/29/2006.

Accession Number: 20061003-0174.

Comment Date: 5 p.m. Eastern Time on Friday, October 20, 2006.

Docket Numbers: ER06-1551-000.

Applicants: Avista Corporation.

Description: Avista Corporation submits its Second Revised Sheet 8 et al to First Revised FERC Rate Schedule 184, Exchange Agreement w/ the Washington Water Power Co and Bonneville Power Administration.

Filed Date: 9/29/2006.

Accession Number: 20061003-0173.

Comment Date: 5 p.m. Eastern Time on Friday, October 20, 2006.

Docket Numbers: ER06-1552-000.

Applicants: Midwest Independent Transmission System Operator, Inc.

Description: Midwest Independent Transmission System Operator,, Inc. submits proposed revisions to its Midwest ISO's Open Access Transmission and Energy Markets Tariff, FERC Electric Tariff, Volume No. 1.

Filed Date: 9/29/2006.

Accession Number: 20061003-0172.

Comment Date: 5 p.m. Eastern Time on Friday, October 20, 2006.

Docket Numbers: ER06-1553-000.

Applicants: Duke Energy Shared Services, Inc.

Description: The Cincinnati Gas & Electric Co and Ohio Valley Electric Corp submits an amendment to the Third Supplemental Agreement to Facility Agreement.

Filed Date: 9/29/2006.

Accession Number: 20061003-0171.

Comment Date: 5 p.m. Eastern Time on Friday, October 20, 2006.

Docket Numbers: ER06-1554-000.

Applicants: Midwest Independent Transmission System Operator, Inc.

Description: Midwest Independent Transmission System Operator, Inc. submits proposed revisions to the Midwest ISO OAT&EMT, FERC Electric Tariff Third Revised Volume 1.

Filed Date: 9/29/2006.

Accession Number: 20061003-0133.

Comment Date: 5 p.m. Eastern Time on Friday, October 20, 2006.

Docket Numbers: ER06-1555-000.

Applicants: Entergy Services Inc; Entergy Operating Companies.

Description: Entergy Operating Companies submits an executed Network Integration Transmission Service Agreement & a notice of cancellation of Entergy Louisiana LLC's Rate Schedule 11.

Filed Date: 9/29/2006.

Accession Number: 20061003-0132.

Comment Date: 5 p.m. Eastern Time on Friday, October 20, 2006.

Docket Numbers: ER06-1556-000.

Applicants: Midwest Independent Transmission System Operator, Inc.

Description: Midwest Independent Transmission System Operator, Inc. submits proposed revisions to the Midwest ISO OAT&EMT, FERC Electric Third Revised Volume 1.

Filed Date: 9/29/2006.

Accession Number: 20061003-0131.

Comment Date: 5 p.m. Eastern Time on Friday, October 20, 2006.

Docket Numbers: ER06-1557-000.

Applicants: New England Power Pool Participants Committee.

Description: The New England Power Pool Participants Committee submits counterpart signature pages of their Agreement dated 9/1/71 to expand NEPOOL membership to include BG Dighton Power, LLC et al.

Filed Date: 9/29/2006.

Accession Number: 20061003-0130.

Comment Date: 5 p.m. Eastern Time on Friday, October 20, 2006.

Docket Numbers: ER06-1558-000.

Applicants: American Electric Power Service Corp.

Description: Ohio Power Company and Columbus Southern Power Company submit their Sixth Revised Interconnection and Local Delivery Service Agreement with Buckeye Power, Inc.

Filed Date: 9/28/2006.

Accession Number: 20061003-0129.

Comment Date: 5 p.m. Eastern Time on Thursday, October 19, 2006.

Docket Numbers: ER06-1559-000.

Applicants: Tampa Electric Company.

Description: Tampa Electric Co submits its First Revised Sheet Nos. 1 and 27 to First Revised Rate Schedule FERC 62.

Filed Date: 9/29/2006.

Accession Number: 20061003-0127.

Comment Date: 5 p.m. Eastern Time on Friday, October 20, 2006.

Docket Numbers: ER06-1561-000.

Applicants: Central Maine Power Company.

Description: Central Maine Power Co submits an Executed Large Generator Interconnection Agreement with CMP Androscoggin LLC.

Filed Date: 9/29/2006.

Accession Number: 20061003-0153.

Comment Date: 5 p.m. Eastern Time on Friday, October 20, 2006.

Docket Numbers: ER06-1562-000.

Applicants: American Electric Power Service Corporation.

Description: Indiana Michigan Power Co submits a third revision to its Interconnection and Local Delivery Service Agreement 1262 between Wabash Valley Power Association and AEP.

Filed Date: 9/29/2006.

Accession Number: 20061003-0154.

Comment Date: 5 p.m. Eastern Time on Friday, October 20, 2006.

Docket Numbers: ER06-1563-000.

Applicants: American Electric Power Company.

Description: American Electric Power submits a revision to its Repair and Maintenance Agreement between Indiana Michigan Power Co and Wabash Valley Power Association.

Filed Date: 9/29/2006.

Accession Number: 20061003-0155.

Comment Date: 5 p.m. Eastern Time on Friday, October 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-16803 Filed 10-10-06; 8:45 am]

BILLING CODE 6717-01-P